DEPARTMENT OF COMMERCE

International Trade Administration

[A-570-198]

Temporary Steel Fencing From the People's Republic of China: Preliminary Affirmative Determination of Sales at Less Than Fair Value, Preliminary Affirmative Determination of Critical Circumstances, in Part, Postponement of Final Determination and Extension of Provisional Measures; Correction

AGENCY: Enforcement and Compliance, International Trade Administration, Department of Commerce.

ACTION: Notice; correction.

SUMMARY: The U.S. Department of Commerce (Commerce) published a notice in the Federal Register of August 19, 2025, in which Commerce announced the preliminary determination in the less-than-fair-value (LTFV) investigation of temporary steel fencing from the People's Republic of China (China). This notice corrects the inadvertent statement that critical circumstances exist for the separate rate companies and corrects the names of producers of certain separate rate companies.

FOR FURTHER INFORMATION CONTACT: Dennis McClure or Noah Wetzel, AD/CVD Operations, Office VIII, Enforcement and Compliance, International Trade Administration, U.S. Department of Commerce, 1401 Constitution Avenue NW, Washington, DC 20230; telephone: (202) 482-5973 or (202) 482-7466, respectively.

SUPPLEMENTARY INFORMATION:

Background

On August 19, 2025, Commerce published in the Federal Register the preliminary determination in the LTFV investigation of temporary steel fencing from the People's Republic of China.¹ We inadvertently stated that critical circumstances exist for the separate rate companies. We also misspelled the names of producers of certain separate rate companies.

¹ See Temporary Steel Fencing from the People's Republic of China: Preliminary Affirmative Determination of Sales at Less Than Fair Value, Preliminary Affirmative Determination of Critical Circumstances, in Part, Postponement of Final Determination and Extension of Provisional Measures, 90 FR 40332 (August 19, 2025).

Correction

In the Federal Register of August 19, 2025, in FR Doc 2025-15781, on page 40332-40333, in the third column, correct the second sentence of the “Preliminary Affirmative Determination of Critical Circumstances, in Part” paragraph to read as follows:

Additionally, Commerce preliminarily determines that critical circumstances do not exist for the following separate rate companies regarding temporary steel fencing: (1) exported by Hebei Minmetals Co., Ltd. and produced or supplied by Huanghua Wangang Hardware Co., Ltd., Huanghua Taiyue Hardware Co., Ltd., Hebei Wuxin Garden Products Co., Ltd., Huanghua Qingxin Metal Products Co., Ltd., Huanghua Xingyu Hardware Products Co., Ltd., Huanghua Deyue Hardware Co., Ltd., Cangzhou Hualing Metal Products Co., Ltd., and Huanghua Huanyu Hardware Factory; (2) exported by Tianjin Linkwel International Trading Co., Ltd. and produced by Tianjin Lianhao Metal Products Co., Ltd. and Chanzhou Lianrui Metal Products Co., Ltd.; (3) exported by Shantou Jiayu Trading Co., Ltd. and supplied by Huanghua Juntai Hardware Products Co., Ltd.; (4) exported by Shijiazhuang Shuangming Trade Co., Ltd. and produced by Huanghua Wangang Hardware Co., Ltd., Huanghua Taiyue Hardware Co., Ltd., Hebei Wuxin Garden Products Co., Ltd., Huanghua Qingxin Metal Products Co., Ltd., and Huanghua Xingyu Hardware Products Co., Ltd.; (5) exported by Metaltec Group Co., Limited and produced by Shijiazhuang Shuangming Trade Co., Ltd., Huanghua Wangang Hardware Co., Ltd., Huanghua Taiyue Hardware Co., Ltd., Hebei Wuxin Garden Products Co., Ltd., Huanghua Qingxin Metal Products Co., Ltd., and Huanghua Xingyu Hardware Products Co., Ltd.; (6) exported by Hebei Yelang Imp. & Exp. Trade Co., Ltd. and produced by Huanghua Pengxiang Hardware Products Co., Ltd.; (7) exported by Joint Force Int'l Co., Limited and produced by Hebei Minmetals Co., Ltd., Huanghua Wangang Hardware Co., Ltd., Huanghua Taiyue Hardware Co., Ltd., Hebei Wuxin Garden Products Co., Ltd., Huanghua Qingxin Metal Products Co., Ltd., Huanghua Xingyu Hardware Products Co, Ltd., Huanghua Deyue Hardware Co., Ltd., Huanghua Huanyu Hardware Factory; (8) exported by Hebei Jinshi Industrial Metal Co., Ltd. and produced and supplied by Tangshan ZhongRui IndustriaI Co., Ltd., Huanghua Tianhang Hardware Products Co., Ltd., Hebei Tinlin Metal Products Co., Ltd., Huanghua Xindarui Hardware Products Co., Ltd.; (9) exported by Hebei Haiao Wire Mesh Products Co., Ltd. and produced by Raoyang Shengshi Metal Products Co., Ltd.; (10) exported and produced by Anping Chengxin Metal Mesh Co., Ltd.; (11) exported by Hebei Houtuo Co., Ltd. and produced by Huanghua Aiyuan Hardware Products Co., Ltd.; (12) exported by Hebei Neweast Yilong Trading Co., Ltd., and produced by Huanghua City Deyue Hardware Co., Ltd.; and (13) exported and produced by Hebei Giant Metal Technology Co., Ltd.

In addition, in the Federal Register of August 19, 2025, in FR Doc 2025-15781, on pages 40333-40334 in the rate box, correct the producer names relating to rows 16, 19, 20, and 22, in the table in the “Preliminary Determination” section to read as follows:

Exporter | Producer | Weighted- average dumping margin (percent) | Cash deposit rate (adjusted for subsidy offsets) (percent)
Shenzhou Yongao Metal Products Co., Ltd./Shenzhou Yuelei Metal Products Co., Ltd | Shenzhou Yongao Metal Products Co., Ltd./Shenzhou Yuelei Metal Products Co., Ltd | * 187.69 | 177.15
Shijiazhuang Sd Company Ltd | Huanghua Xingchang Hardware Products Co., Ltd | 136.57 | 136.57
Shijiazhuang Sd Company Ltd | Huanghua Shengrundong Hardware Products Co., Ltd | 136.57 | 136.57
Shijiazhuang Sd Company Ltd | Hebei Oriental Star Metal Products Co., Ltd | 136.57 | 136.57
Hebei Minmetals Co., Ltd | Huanghua Wangang Hardware Co., Ltd | 136.57 | 136.57
Hebei Minmetals Co., Ltd | Huanghua Taiyue Hardware Co., Ltd | 136.57 | 136.57
Hebei Minmetals Co., Ltd | Hebei Wuxin Garden Products Co., Ltd | 136.57 | 136.57
Hebei Minmetals Co., Ltd | Huanghua Qingxin Metal Products Co., Ltd | 136.57 | 136.57
Hebei Minmetals Co., Ltd | Huanghua Xingyu Hardware Products Co., Ltd | 136.57 | 136.57
Hebei Minmetals Co., Ltd | Huanghua Deyue Hardware Co., Ltd | 136.57 | 136.57
Hebei Minmetals Co., Ltd | Cangzhou Hualing Metal Products Co., Ltd | 136.57 | 136.57
Hebei Minmetals Co., Ltd | Huanghua Huanyu Hardware Factory | 136.57 | 136.57
Tianjin Linkwel International Trading Co., Ltd | Tianjin Lianhao Metal Products Co., Ltd | 136.57 | 136.57
Tianjin Linkwel International Trading Co., Ltd | Changzhou Lianrui Metal Products Co., Ltd | 136.57 | 136.57
Shantou Jiayu Trading Co., Ltd | Huanghua Juntai Hardware Products Co., Ltd | 136.57 | 136.57
Shijiazhuang Shuangming Trade Co., Ltd | Huanghua Wangang Hardware Co., Ltd | 136.57 | 136.57
Shijiazhuang Shuangming Trade Co., Ltd | Huanghua Taiyue Hardware Co., Ltd | 136.57 | 136.57
Shijiazhuang Shuangming Trade Co., Ltd | Hebei Wuxin Garden Products Co., Ltd | 136.57 | 136.57
Shijiazhuang Shuangming Trade Co., Ltd | Huanghua Qingxin Metal Products Co., Ltd | 136.57 | 136.57
Shijiazhuang Shuangming Trade Co., Ltd | Huanghua Xingyu Hardware Products Co., Ltd | 136.57 | 136.57
Metaltec Group Co., Limited | Shijiazhuang Shuangming Trade Co., Ltd | 136.57 | 136.57
Metaltec Group Co., Limited | Huanghua Wangang Hardware Co., Ltd | 136.57 | 136.57
Metaltec Group Co., Limited | Huanghua Taiyue Hardware Co., Ltd | 136.57 | 136.57
Metaltec Group Co., Limited | Hebei Wuxin Garden Products Co., Ltd | 136.57 | 136.57
Metaltec Group Co., Limited | Huanghua Qingxin Metal Products Co., Ltd | 136.57 | 136.57
Metaltec Group Co., Limited | Huanghua Xingyu Hardware Products Co., Ltd | 136.57 | 136.57
Hebei Yelang Imp. & Exp. Trade Co., Ltd | Huanghua Pengxiang Hardware Products Co., Ltd | 136.57 | 136.57
Joint Force Int'l Co., Limited | Hebei Minmetals Co., Ltd | 136.57 | 136.57
Joint Force Int'l Co., Limited | Huanghua Wangang Hardware Co., Ltd | 136.57 | 136.57
Joint Force Int'l Co., Limited | Huanghua Taiyue Hardware Co., Ltd | 136.57 | 136.57
Joint Force Int'l Co., Limited | Hebei Wuxin Garden Products Co., Ltd | 136.57 | 136.57
Joint Force Int'l Co., Limited | Huanghua Qingxin Metal Products Co., Ltd | 136.57 | 136.57
Joint Force Int'l Co., Limited | Huanghua Xingyu Hardware Products Co., Ltd | 136.57 | 136.57
Joint Force Int'l Co., Limited | Huanghua Deyue Hardware Co., Ltd | 136.57 | 136.57
Joint Force Int'l Co., Limited | Huanghua Huanyu Hardware Factory | 136.57 | 136.57
Hebei Jinshi Industrial Metal Co., Ltd | Tangshan ZhongRui IndustriaI Co., Ltd | 136.57 | 136.57
Hebei Jinshi Industrial Metal Co., Ltd | Huanghua Tianhang Hardware Products Co., Ltd | 136.57 | 136.57
Hebei Jinshi Industrial Metal Co., Ltd | Hebei Tinlin Metal Products Co., Ltd | 136.57 | 136.57
Hebei Jinshi Industrial Metal Co., Ltd | Huanghua Xindarui Hardware Products Co., Ltd | 136.57 | 136.57
Hebei Haiao Wire Mesh Products Co., Ltd | Raoyang Shengshi Metal Products Co., Ltd | 136.57 | 136.57
Anping Chengxin Metal Mesh Co., Ltd | Anping Chengxin Metal Mesh Co., Ltd | 136.57 | 126.03
Hebei Houtuo Co., Ltd | Huanghua Aiyuan Hardware Products Co., Ltd | 136.57 | 136.57
Hebei Neweast Yilong Trading Co., Ltd | Huanghua City Deyue Hardware Co., Ltd | 136.57 | 136.57
Hebei Giant Metal Technology Co., Ltd | Hebei Giant Metal Technology Co., Ltd | 136.57 | 136.57
China-Wide Entity |  | * 187.69 | 187.69

Notification to Interested Parties

This notice is issued and published in accordance with sections 733(f) and 777(i) of the Tariff Act of 1930, as amended, and 19 CFR 351.205(c).

Dated: August 27, 2025.
Abdelali Elouaradia,
Deputy Assistant Secretary for Enforcement and Compliance.

[FR Doc. 2025-16786 Filed 8-29-25; 8:45 am]

BILLING CODE 3510-DS-P